DEPARTMENT OF LABOR

Employment and Training Administration

[NAFTA-04275]

Autoliv, ASP, Inc. Cushion Manufacturing Facility Including Leased Workers of Adecco, Ogden, Utah; Amended Certification Regarding Eligibility To Apply for Worker Adjustment Assistance

In accordance with Section 250(A), Subchapter D, Chapter 2, Title II of the Trade Act of 1974 (19 U.S.C. 2273), the Department of Labor issued a Certification Regarding Eligibility to Apply for NAFTA Transitional Adjustment Assistance on March 8, 2001, applicable to workers of Autoliv, ASP, Inc., Cushion Manufacturing Facility, Ogden, Utah. The Notice was published in the Federal Register on April 5, 2001 (66 FR 18119).

At the request of the State agency, the Department reviewed the certification for workers of the subject firm. Information provided by the State and the company shows that leased employees of Adecco were employed at Autoliv, ASP, Inc., Cushion Manufacturing Facility to produce cushions for airbags at the Ogden Utah location of the subject firm.

Workers separations occurred at Adecco as a result of worker separations at Autoliv, ASP, Inc., Cushion Manufacturing Facility, Ogden, Utah.

Based on these findings, the Department is amending the certification to include workers of Adecco employed at Autoliv, ASP, Inc., Cushion Manufacturing Facility, Ogden, Utah.

The intent of the Department's certification is to include all workers of Autoliv, ASP, Inc., Cushion Manufacturing Facility, Ogden, Utah adversely affected by a shift in production of airbag cushions to Mexico.

The amended notice applicable to NAFTA—4275 is hereby issued as follows:

All workers of Autoliv, ASP, Inc., Cushion Manufacturing Facility, Ogden, Utah including leased workers of Adecco, Ogden, Utah engaged in the production of cushions for airbags at Autoliv, ASP, Inc., Cushion Manufacturing Facility, Ogden, Utah, who became totally or partially separated from employment on or after November 6, 1999, through March 8, 2003, are eligible to apply for NAFTA-TAA under Section 250 of the Trade Act of 1974.

Signed at Washington, DC this 5th day of November, 2001.
Linda G. Poole,
Certifying Officer, Division of Trade Adjustment Assistance.

[FR Doc. 01-30063 Filed 12-4-01; 8:45 am]

BILLING CODE 4510-30-M